ENVIRONMENTAL PROTECTION AGENCY

[EPA-HQ-OPP-2020-0692; 9179-01-OMS]

Information Collection Request Submitted to OMB for Review and Approval; Comment Request; Pesticide Environmental Stewardship Program Annual Measures Reporting (Renewal)

AGENCY: Environmental Protection Agency (EPA).

ACTION: Notice.

SUMMARY: The Environmental Protection Agency (EPA) has submitted an information collection request (ICR), Pesticide Environmental Stewardship Program Annual Measures Reporting, (EPA ICR Number 2415.04, OMB Control Number 2070-0188) to the Office of Management and Budget (OMB) for review and approval in accordance with the Paperwork Reduction Act. This is a proposed extension of the ICR, which is currently approved through October 31, 2021. Public comments were previously requested via the Federal Register on March 31, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 24, 2021.

ADDRESSES: Submit your comments to EPA, referencing Docket ID No. EPA-HQ-OPP-2020-0692, online using www.regulations.gov (our preferred method), by email to siu.carolyn@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Office of Chemical Safety and Pollution Prevention, Environmental Protection Agency, 1200 Pennsylvania Ave. NW, Washington, DC 20460; telephone number: (703) 347-0159; email address: siu.carolyn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the information collection activities associated with voluntary participation in EPA's Pesticide Environmental Stewardship Program (PESP). The program uses the information collected to establish partner membership, develop stewardship strategies, measure progress towards stewardship goals, and award incentives. PESP is an EPA partnership program that encourages the use of the integrated pest management (IPM) strategies to reduce pests and pesticide risks. IPM is an approach that involves making the best choices from among a series of pest management practices that are both economical and pose the least possible hazard to people, property, and the environment.

PESP members include pesticide end-user and organizations which focus on training, educating, and/or influencing pesticide users. To become a PESP member, an organization submits an application and a five-year strategy outlining how environmental and human health risk reduction goals will be achieved through IPM implementation and/or education. The program encourages PESP members to track progress towards IPM goals such as: reductions in unnecessary use of pesticides, cost reductions, and knowledge shared about IPM methodologies. Entities participating in PESP also benefit from technical assistance, and through incentives for achievements at different levels.

Form Numbers: 9600-01, 9600-02, and 9600-03.

Respondents/affected entities: Pesticide user companies and organizations, or entities that practice IPM or promote the use of IPM through education and training.

Respondent's obligation to respond: Voluntary (5 CFR 1320.5(d)(2)).

Estimated number of respondents: 461 (total).

Frequency of response: Annual and on occasion.

Total estimated burden: 51,562 hours (per year). Burden is defined at 5 CFR 1320.03(b).

Total estimated cost: $3,605,562 (per year), includes $0 annualized capital or operation & maintenance costs.

Changes in the Estimates: There is a correction of the number of potential respondents from 419 to 461. There is an increase of 3,897 hours in the total estimated respondent burden compared with the ICR currently approved by OMB. This increase reflects EPA's updating of burden estimates for this collection based on historical information on the number of PESP members. Based on revised estimates, the number of IPM Promoters has decreased, while the number of IPM users has increased, and the number of National IPM users has decreased since the last ICR renewal. Although the estimated burden per response has not changed for any category, the shift in membership types has resulted in a net increase in the overall burden.

Courtney Kerwin
Director, Regulatory Support Division.

[FR Doc. 2021-23196 Filed 10-22-21; 8:45 am]

BILLING CODE 6560-50-P